ENVIRONMENTAL PROTECTION AGENCY

[FRL-8553-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses To Agency Clearance Requests

OMB Approvals

EPA ICR Number 2261.01; Safer Detergent Stewardship Initiative (SDSI) Program; was approved 03/11/2008; OMB Number 2070-0171; expires 03/31/2011.

EPA ICR Number 1710.05; Residential Lead-Based Paint Hazard Disclosure Requirements (Renewal); in 40 CFR part 745, subpart F; was approved 03/21/2008; OMB Number 2070-0151; expires 03/31/2011.

EPA ICR Number 0983.10; Equipment Leaks of VOC in Petroleum Refineries; in 40 CFR part 60, subparts GGG and GGGa; was approved 03/21/2008; OMB Number 2060-0067; expires 03/31/2011.

EPA ICR Number 2227.02; NSPS for Stationary Spark Ignition Internal Combustion Engines (Final Rule); in 40 CFR part 60, subpart JJJJ; was approved 03/24/2008; OMB Number 2060-0610; expires 03/31/2011.

EPA ICR Number 2274.02; NESHAP for Clay Ceramics Manufacturing, Glass Manufacturing and Secondary Nonferrous Metals Processing Area Sources (Final Rule); in 40 CFR part 63, subparts RRRRRR, SSSSSS, and TTTTTT; was approved 03/24/2008; OMB Number 2060-0606; expires 03/31/2011.

EPA ICR Number 1715.09; TSCA Section 402 and Section 404 Training and Certification, Accreditation and Standards for Lead-Based Paint Activities (Renewal); in 40 CFR part 745, subparts L and Q; was approved 03/26/2008; OMB Number 2070-0155; expires 03/31/2011.

EPA ICR Number 2078.02; Energy Star Product Labeling (Renewal); was approved 03/26/2008; OMB Number 2060-0528; expires 03/31/2011.

EPA ICR Number 1365.08; Asbestos-Containing Materials in Schools Rule and Revised Asbestos Model Accreditation Plan Rule (Renewal); in 40 CFR part 763, subpart E, Appendix C; was approved 03/27/2008; OMB Number 2070-0091; expires 03/31/2011.

EPA ICR Number 1630.09; Oil Pollution Act Facility Response Plans (Renewal); in 40 CFR 112.20 and 112.21; was approved 03/31/2008; OMB Number 2050-0135; expires 03/31/2011.

Short Term Extension of Expiration Date

EPA ICR Number 1860.03; Assessment of Compliance Assistance Projects; a short term extension of the expiration date was granted by OMB on 03/31/2008; OMB Number 2020-0015; expires 09/30/2008.

Disapproval

EPA ICR Number 1823.03; Reporting and Recordkeeping Requirements Under the Perfluorocompound (PFC) Reduction/Climate Partnership for the Semi-conductor Industry; a short term extension request by EPA of the expiration date was disapproved by OMB on 04/02/2008; OMB Number 2060-0382; expired 03/31/2008.

Dated: April 7, 2008.
Sara Hisel-McCoy,
Director, Collection Strategies Division.

[FR Doc. E8-7871 Filed 4-11-08; 8:45 am]

BILLING CODE 6560-50-P